DEPARTMENT OF HEALTH AND HUMAN SERVICES

Administration for Children and Families

[OMB #: 0970-0278]

Submission for Office of Management and Budget Review; Unaccompanied Alien Children Sponsor Application Packet

AGENCY: Office of Refugee Resettlement, Administration for Children and Families, U.S. Department of Health and Human Services.

ACTION: Request for public comments.

SUMMARY: The Office of Refugee Resettlement (ORR), Administration for Children and Families (ACF), U.S. Department of Health and Human Services, is inviting public comments on revisions to an approved information collection. The request consists of several instruments that allow the Unaccompanied Alien Children Bureau to assess the suitability of potential sponsors for unaccompanied alien children. Note this information collection was previously titled Family Reunification Application for Sponsors of Unaccompanied Alien Children and has been retitled at the direction of ORR leadership.

DATES: Comments due September 15, 2025.

ADDRESSES: The public may view and comment on this information collection request at: https://www.reginfo.gov/public/do/PRAViewICR?ref_nbr= [ICR Ref No.]. You can also obtain copies of the proposed collection of information by emailing infocollection@acf.hhs.gov. Identify all emailed requests by the title of the information collection.

SUPPLEMENTARY INFORMATION:

Description: ORR is proposing three new instruments and revisions to existing instruments under this information collection. Descriptions of the new instruments and proposed revisions for existing instruments are listed below and include terminology updates requested by the current Administration.

Additionally, ORR proposes changing the title of this this information collection from “Family Reunification Packet for Sponsors of Unaccompanied Children” to “Unaccompanied Alien Children Sponsor Application Packet” to better reflect the purpose of the information collection. ORR plans to make the instruments available in English and Spanish. English is the official language and authoritative version of all federal information.

New Instruments

• Affidavit of Financial Support (Form SAP-8): This instrument may be used by sponsors to fulfill the proof of income requirement in Form SAP-3. The instrument is used as evidence that the sponsor receives financial support from another individual, thereby demonstrating that there are sufficient financial resources to provide for the physical and mental well-being of the child. The expected respondents of this form are individuals financially supporting the sponsor and potential sponsors.

• Sponsor Application for Ms. L Separation Cases (Form SAP-9): This instrument is a shorter version of the Sponsor Application (Form SAP-3) that is used as part of the streamlined reunification process required under the Ms. L Settlement Agreement. The form mostly collects the same information about the sponsor as Form SAP-3, except that fields asking for information about household members or alternate caregivers are not included. The expected respondents of this form are Ms. L class members (generally, parents and legal guardians who were separated from their child when taken into custody by the Department of Homeland Security for a reason that is not permissible under the Settlement).

• DNA Testing Instructions (Form SAP-10): This instrument informs potential sponsors of ORR's DNA testing requirement. ORR requires DNA testing to support proof of relationship between the potential sponsor and the child when the sponsor purports to be biologically related to the child. ORR requires DNA results that confirm biological parentage, biological grand-parentage, avuncular relationship (when an uncle or aunt is a full sibling to a parent), or siblingship (full or half), to establish biological relationship with the child. The expected respondents of this instrument are potential sponsors.

Revisions to Existing Instruments

• All Instruments:

○ Replace “unaccompanied child” or “UC” with “unaccompanied alien child” or “UAC”

○ Replace “case manager” with “sponsor specialist”

• Authorization for Release of Information (Form SAP-2): This instrument collects respondents' written consent to background investigations with Federal, State, or local law enforcement and/or child welfare agencies, and information to allow ORR to make a determination of whether the unaccompanied alien child will be safe in the custody of the potential sponsor, as well as other adult household members. The expected respondents of this instrument are, under certain circumstances, potential sponsors, adult household members, and alternate adult caregivers.

○ Remove “in black ink” from the instruction at the top of the form to reflect that ORR accepts both wet and electronic signatures for this form.

○ Add a column in the “Other name you have used” table where sponsor applicants can indicate whether they are still using any of the other names they list

○ Add a field to collect either a Social Security Number or Tax Identification Number (if applicable) as required by Public Law (Pub. L.) 119-21 Section 87001(b)(1)(B)

○ Revise instructions in the address section to require addresses from age 18 to present to align with state/local sex offender registry check requirements.

○ Add an attestation that the respondent understands the penalties for knowingly and willfully making false statement under 18 U.S.C. 1001

○ Add an attestation the sponsor specialist must complete if they have assisted the sponsor applicant with entering information into the form

• Sponsor Application (Form SAP-3): This form collects information related to the potential sponsor's ability to provide for the unaccompanied alien child's mental and physical well-being. ORR uses the information collected to determine the suitability of a potential sponsor as a custodian of an unaccompanied alien child. The expected respondents of this instrument are potential sponsors.

○ Remove the “How to complete this application” and Frequently Asked Questions” sections. This information will be moved into a separate document.

○ Reword the field “Your email address or fax number” to read “Your email address”

○ Add an attestation that the respondent understands the penalties for knowingly and willfully making false statement under 18 U.S.C. 1001

○ Add columns to the household member table to collect contact information (phone and email) as required by Public Law 119-21 Section 87001(b)(1)(F).

○ Add yes/no radio buttons for the questions in the “Health Information” section.

○ Add an attestation the sponsor specialist must complete if they have assisted the sponsor applicant with entering information into the form.

○ Revise the instructions for proof of identity in the Supporting Documents section as follows:

Clarify that original versions are accepted.

Clarify that expired documents will no longer be accepted.

Update the list of acceptable documents to algin with recent policy changes.

○ Revise the instructions for proof of address in the “Supporting Documents” section as follows:

Clarify that an original version of the documentation must be provided.

Update the list of acceptable documents to algin with recent policy changes.

○ Add a requirement to provide proof of income documentation to algin with recent policy changes.

○ Modify the list of acceptable proof of relationship documents to algin with recent policy changes.

○ Add a textbox where the sponsor can explain why they are unable to meet any of the supporting documentation requirements (if appliable).

• Fingerprinting Instructions (Form SAP-5): This instrument informs, as appropriate, potential sponsors, adult household members, and adult caregivers of the steps they must take to be fingerprinted. Fingerprints are collected electronically at grantee or contractor-operated digital fingerprinting sites or submitted via mail using Federal Bureau of Investigation fingerprint cards (form FD-258, OMB #1110-0046). The expected respondents of this instrument are, under certain circumstances, potential sponsors, adult household members, and adult caregivers.

○ No other revisions.

• Letter of Designation for Care of a Child (Form SAP-6): This instrument is filed by an unaccompanied alien child's parent(s) or legal guardian(s) to specify a potential sponsor to whom they wish to grant caregiving authority for their child. The form is optional (not required for release) but helps non-parent sponsors access community resources or answer questions from government authorities about the nature of their relationship with an unaccompanied alien child in their care.

○ Add an attestation that the respondent understands the penalties for knowingly and willfully making false statement under 18 U.S.C. 1001.

○ Add an attestation the sponsor specialist must complete if they have assisted the sponsor applicant with entering information into the form.

Respondents: Potential sponsors of unaccompanied alien children, their adult household members, and alternate adult caregivers.

Annual Burden Estimates

Burden estimates for existing instruments were updates to reflect the following changes:

• A decrease in the number of children in ORR care and corresponding decrease in the number of individuals applying to sponsor a child.

• An increase in the number of individuals required to undergo fingerprint checks and the frequency of fingerprint checks for sponsors. All sponsors, household members, and adult caregivers will be required to undergo a fingerprint check. ORR federal staff will take the sponsor's prints using a mobile device two additional times during the vetting process—during the home study and just prior to physically releasing the child to the sponsor.

• ORR will be moving sponsor vetting responsibilities from grantee/contractor staff to federal staff.

The specific changes to burden are as follows:

• Authorization for Release of Information (Form SAP-2): The annual number of respondents increased from 81,532 to 183,588; the annual number of record keepers decreased from 235 to 0.

• Sponsor Application (Form SAP-3): The annual number of respondents decreased from 122,950 to 76,569; the annual number of record keepers decreased from 235 to 0; the average burden hours per response increased from 1 hour to 1.5 hours.

• Fingerprinting Instructions (Form SAP-5): The annual number of respondents increased from 81,532 to 183,588; the annual number of record keepers decreased from 235 to 0; the annual number of responses per respondent increased from 1 to 3 (for sponsors respondents only) with an average burden hours per response of 0.5 for the two additional responses (the average burden hours per response of 1.25 hours remains the same for the sponsor's initial response).

• Letter of Designation for Care of a Child (Form SAP-6): The annual number of respondents decreased from 41,181 to 19,202; the annual number of record keepers decreased from 235 to 0.

Instrument title | Annual total number of respondents | Annual total number of responses per respondent | Average burden hours per response | Annual total burden hours
Authorization for Release of Information (Form SAP-2) | 183,588 | 1 | 0.50 | 91,794
Family Reunification Application (Form SAP-3) | 76,569 | 1 | 1.50 | 114,854
Fingerprinting Instructions (Form SAP-5)—Initial Fingerprinting | 183,588 | 1 | 1.25 | 229,485
Fingerprinting Instructions (Form SAP-5)—Mobile Fingerprinting | 76,569 | 2 | 0.50 | 76,569
Letter of Designation for Care of Child (Form SAP-6) | 19,202 | 1 | 0.75 | 14,401
Affidavit of Financial Support (Form SAP-8) | 26,799 | 1 | 1.00 | 26,799
Sponsor Application for Ms. L Separation Cases (Form SAP-9) | 165 | 1 | 1.00 | 165
DNA Testing Instructions (Form SAP-10) | 54,252 | 1 | 1.00 | 54,252
Estimated Annual Burden Hours Total |  |  |  | 608,319

Authority: 6 U.S.C. 279; 8 U.S.C. 1232; 45 CFR 410.1202; Pub. L. 119-21 Section 87001.

Mary C. Jones,
ACF/OPRE Certifying Officer.

[FR Doc. 2025-15484 Filed 8-13-25; 8:45 am]

BILLING CODE 4184-45-P